NUCLEAR REGULATORY COMMISSION

[Docket Nos. 50-338 and 50-339; NRC-2012-0075; License Nos. NPF-4 and NPF-7]

Virginia Electric and Power Company; Receipt of Request for Action

Notice is hereby given that by petition dated October 20, 2011, (U.S. Nuclear Regulatory Commission's (NRC's or the Commission's) Agencywide Documents Access and Management System (ADAMS) Accession No. ML11293A116); as supplemented by a letter dated November 2, 2011 (ADAMS Accession No. ML11308A027); and an email dated December 15, 2011 (ADAMS Accession No. ML12060A197); Paul Gunter, Kevin Kamps, Thomas Saporito, Paxus Calta, Alex Jack, Scott Price, John Cruickshank, Eleanor Amidon, Erika Kretzmer, Lovell King II, David Levy, Hilary Boyd, G. Paul Blundell, Erica Gray, Edmund Frost, and Richard Ball (the petitioners), request that the NRC take action with regard to Virginia Electric and Power Company's (the licensee's) North Anna Power Station, Units 1 and 2 (North Anna 1 and 2). The petitioners request that the NRC suspend the operating licenses for North Anna 1 and 2, until the completion of a set of activities described in the petition.

As the basis for this request, the petitioners state several concerns which are summarized as follows:

(1) Prior to the approval of restart for North Anna 1 and 2, after the earthquake of August 23, 2011, the licensee should be required to obtain a license amendment from the NRC that reanalyzes and reevaluates the plant's design basis for earthquakes and for associated retrofits.

(2) Prior to the approval of restart for North Anna 1 and 2, after the earthquake of August 23, 2011, the licensee should be required to ensure that North Anna 1 and 2 are subjected to thorough inspections of the same level and rigor.

(3) The licensee should be required to reanalyze and requalify the adequacy and condition of the Lake Anna dam after the earthquake of August 23, 2011.

(4) The licensee should be required to reanalyze and reevaluate the North Anna Independent Spent Fuel Storage Installation (ISFSI) due to damage caused by the earthquake of August 23, 2011, and ensure that no threat is posed to public health and safety by its operation.

(5) The licensee should ensure the reliability and accuracy of the seismic instrumentation at North Anna 1 and 2.

(6) The NRC staff made hasty decisions about the restart of North Anna 1 and 2, and gave priority to economic considerations. The long-term action plan was not even complete before the NRC gave authorization to restart.

(7) Regulatory commitments are an inadequate regulatory tool for ensuring that the critical long-term tasks identified in the NRC staff's confirmatory action letter (CAL) dated November 11, 2011 (ADAMS Accession No. ML11311A201), are completed.

(8) The NRC should provide greater access to certain documents concerning North Anna 1 and 2, which are stored at the University of Virginia.

(9) The licensee needs to address the possibility of both boildown and rapid draindown events at the North Anna 1 and 2, spent fuel pool.

(10) The long-term storage of spent fuel in the spent fuel pool at North Anna 1 and 2, and at the North Anna ISFSI poses challenges to the public health and safety.

(11) “Hardened on-site storage” strategies for spent fuel should be used at North Anna 1 and 2.

(12) Concerns exist about age-related degradation at North Anna 1 and 2.

(13) Concerns exist about the response of North Anna 1 and 2, to a prolonged station blackout.

(14) The current emergency evacuation plans for North Anna 1 and 2, need to be revised to reflect the possible need to evacuate a larger area than that identified in the current emergency planning zone.

(15) Concerns exist about damage to the structural integrity of the spent fuel pool structure at North Anna 1 and 2, as represented on pages 41 and 42 of the NRC staff's technical evaluation for the restart of North Anna 1 and 2, dated November 11, 2011 (ADAMS Accession No. ML11308B406).

(16) There are concerns about lack of compliance at North Anna 1 and 2, with a public law requiring storage of potassium iodide in areas surrounding a nuclear reactor.

The request is being treated pursuant to Title 10 of the Code of Federal Regulations (10 CFR), Section 2.206, “Requests for action under this subpart,” of the Commission's regulations. The request has been referred to the Director of the Office of Nuclear Reactor Regulation (NRR). As provided by 10 CFR 2.206, appropriate action will be taken on this petition within a reasonable time. The petitioners met with the NRR petition review board on December 12, 2011 (corrected transcript at ADAMS Accession No. ML12033A025), and February 2, 2012 (corrected transcript at ADAMS Accession No. ML12047A240), to discuss the petition. The results of these discussions were considered in the board's final determination to partially accept the petition for review, as communicated to the petitioners by letter from Eric J. Leeds, Director, Office of Nuclear Reactor Regulation, dated March 16, 2012 (ADAMS Accession No. ML12060A090), and in establishing the review schedule.

A copy of the petition is available for inspection at the Commission's Public Document Room (PDR), located at One White Flint North, Public File Area O1 F21, 11555 Rockville Pike (first floor), Rockville, Maryland 20852. Publicly available documents created or received at the NRC are available online through ADAMS in the NRC Library at http://www.nrc.gov/reading-rm/adams.html. To begin the search, select “ADAMS Public Documents” and then select “Begin Web-based ADAMS Search.” For problems with ADAMS, please contact the NRC's PDR reference staff at 1-800-397-4209, 301-415-4737, or by email to PDR.Resource@nrc.gov.

Dated at Rockville, Maryland, this 16th day of March 2012.
For the Nuclear Regulatory Commission.
Eric J. Leeds,
Director, Office of Nuclear Reactor Regulation.

[FR Doc. 2012-7434 Filed 3-27-12; 8:45 am]

BILLING CODE 7590-01-P